FEDERAL ACCOUNTING STANDARDS ADVISORY BOARD

Notice of Accounting and Auditing Policy Committee Meetings for 2006

Board Action: Pursuant to 31 U.S.C. 3511(d), the Federal Advisory Committee Act (Pub. L. 92-463), as amended, and the FASAB Rules of Procedure, as amended in April, 2004, notice is hereby given that the Accounting and Auditing Policy (AAPC), a permanent committee established by the Federal Accounting Standards Advisory Board (FASAB) will meet on the following dates in room 6N30 of the GAO Building unless otherwise noted:

—Tuesday, January 24, 2006

—Tuesday, March 14, 2006

—Tuesday, May 9, 2006

—Tuesday, July 18, 2006

—Tuesday, September 12, 2006

—Tuesday, October 31, 2006

The purposes of the meetings are to discuss issues related to:

—Heritage Assets and Stewardship Land Implementation,

—Inter-Entity Cost Implementation, and

—Any other topics as needed.

A more detailed agenda can be obtained from the Web site (http://fasab.gov/aapc/aapc.html) one week prior to each meeting.

Any interested person may attend the meetings as an observer. Board discussion and reviews are open to the public. GAO Building security requires advance notice of your attendance. Please notify FASAB of your planned attendance by calling 202-512-7350 at least one day prior to the respective meeting.

For Further Information, Contact: Wendy M. Comes, Executive Director, 441 G St., NW., Mail Stop 6K17V, Washington, DC 20548, or call (202) 512-7350.

Authority: Federal Advisory Committee Act. Pub. L. No. 92-463.

Dated: September 9, 2005.
Charles W. Jackson,
Federal Register Liaison Officer.

[FR Doc. 05-18304 Filed 9-14-05; 8:45 am]

BILLING CODE 1610-01-M